DEPARTMENT OF ENERGY

Federal Energy Regulatory Commission

Notice of Draft License Application and Draft Preliminary Draft Environmental Impact Statement (DPDEIS) and Request for Preliminary Terms and Conditions

October 2, 2003.

Take notice that the following draft hydroelectric application has been filed with the Commission and is available for public inspection:

a. Type of Application: New Major License.

b. Project No.: 2195.

c. Applicant: Portland General Electric Company.

d. Name of Project: Clackamas River Hydroelectric Project P-2195 (formerly Oak Grove, P-135 and North Fork P-2195 projects).

e. Location: On the Oak Grove Fork of the Clackamas River on the Mount Hood National Forest, and on the Clackamas River, in Clackamas County, Oregon, near Estacada, Oregon.

f. Applicant Contact: Julie Keil, Portland General Electric, 121 SW Salmon Street, 3WTC-BRHL, Portland, Oregon, 97204, Phone: 503-464-8864.

g. FERC Contact: John Blair at (202) 502-6092; e-mail john.blair@ferc.gov.

h. PGE mailed a copy of the Clackamas River Hydroelectric Project draft Preliminary Draft Environmental Impact Statement (dPDEIS) and Draft Application to interested parties on September 30, 2003. A copy of the dPDEIS and Draft application was filed with Commission on September 29, 2003.

i. With this notice we are soliciting preliminary terms, conditions, prescriptions and recommendations on the dPDEIS and draft license application. All comments on the dPDEIS and draft license application should be sent to Portland General Electric at the address above in item (f), with one copy filed with the Commission at the following address: Federal Energy Regulatory Commission, Magalie R. Salas, Secretary, 888 First St. NE, Washington, DC 20426. All comments must include the project name and number, and bear the heading “Preliminary Comments,” Preliminary Recommendations,” “Preliminary Terms and Conditions,” or “Preliminary Prescriptions.” Any party interested in commenting must do so by December 31, 2003.

j. With this notice, we are initiating consultation with the State Historic Preservation Officer (SHPO), as required by Section 106, National Historic Preservation Act, and the regulations of the Advisory Council on Historic Preservation, 36 CFR 800.4.

k. Locations of the application: A copy of the application is available for review at the Commission's Public Reference Room, located at 888 First Street, N.E., Room 2A, Washington, D.C. 20426, or may be viewed on the Commission's Web site at http://www.ferc.gov using the “e-library link—Dockets” Enter the project number P-2195. For assistance, contact FERC Online Support at FERCOnlineSupport@ferc.gov or toll-free at (866) 208-3676 or for TTY, (202) 502-8659. The application also can be provided by Portland General Electric from the contact name and telephone number in item (f) above.

Magalie R. Salas,
Secretary.

[FR Doc. E3-00010 Filed 10-8-03; 8:45 am]

BILLING CODE 6717-01-P